DEPARTMENT OF HOMELAND SECURITY

Transportation Security Administration

[Docket No. TSA-2023-0001]

RIN 1652-AA69

49 CFR Parts 1500, 1530, 1570, 1572, 1580, 1582, 1584

Vetting of Certain Surface Transportation Employees

AGENCY: Transportation Security Administration, DHS.

ACTION: Notice of proposed rulemaking (NPRM); Extension of comment period.

SUMMARY: On May 23, 2023, the Transportation Security Administration (TSA) published a notice of proposed rulemaking (NPRM) proposing security vetting of certain public transportation, railroad, and over-the-road-bus (OTRB) employees. Through this notice, TSA is extending the comment period to October 1, 2023, to provide additional time for the public to submit comments.

DATES: The comment period for the NPRM published at 88 FR 33472 (May 23, 2023), is extended from August 21, 2023, to October 1, 2023.

ADDRESSES: You may submit comments, identified by the TSA docket number to this rulemaking, to the Federal Docket Management System (FDMS), a government-wide, electronic docket management system. To avoid duplication, please use only one of the following methods:

• Electronic Federal eRulemaking Portal: https://www.regulations.gov. Follow the online instructions for submitting comments.

• Mail: Docket Management Facility (M-30), U.S. Department of Transportation, 1200 New Jersey Avenue SE, West Building Ground Floor, Room W12-140, Washington, DC 20590-0001. The Department of Transportation (DOT), which maintains and processes TSA's official regulatory dockets, will scan the submission and post it to FDMS. Comments must be postmarked by the date indicated above.

• Fax: (202) 493-2251.

See the SUPPLEMENTARY INFORMATION section for format and other information about comment submissions.

FOR FURTHER INFORMATION CONTACT:

For program questions: Victor Parker, Surface Division, Policy, Plans, and Engagement, TSA-28, Transportation Security Administration, 6595 Springfield Center Drive, Springfield, VA 20598-6002; telephone (571) 227-1039; email VettingPolicy@tsa.dhs.gov.

For legal questions: Christine Beyer, Chief Counsel's office, TSA-2, Transportation Security Administration, 6595 Springfield Center Drive, Springfield, VA 20598—6002; telephone (571) 227-2484; facsimile (571) 227-1380; email tsa.surface.vetting@tsa.dhs.gov.

SUPPLEMENTARY INFORMATION:

Comment Period Extension

On May 23, 2023, TSA issued its NPRM entitled Vetting of Certain Surface Transportation Employees (88 FR 33472), and provided the public 90 days to submit comments on the proposal, or until August 21, 2023. Interested parties have requested an extension of the public comment period to give them additional time to respond to the NPRM. While TSA believes that the current 90-day comment period is sufficient for full and meaningful public participation, TSA agrees to extend the comment period to October 1, 2023, to allow the public an additional period to prepare and file comments.

Request for Comment

TSA invites interested persons to participate in this rulemaking by submitting written comments, data, or views. We also invite comments relating to the economic, environmental, energy, or federalism impacts that might result from this rulemaking action, as well as on TSA's collections of information under the Paperwork Reduction Act as described further below. See the ADDRESSES section above for information on where to submit comments.

Submitting Comments

With each comment, please identify the docket number at the beginning of your comments, reference a specific portion or section of the rulemaking, explain the reason for any recommended change, and include supporting data. We recommend that you include your name and a mailing address, an email address, or a telephone number in the body of your document so that we can contact you if we have questions regarding your submission.

You may submit comments and material electronically, by mail, or fax as provided under the ADDRESSES section, but please submit your comments and material by only one means. If you submit comments by mail or delivery, submit them in an unbound format, no larger than 8.5 by 11 inches, suitable for copying and electronic filing.

If you would like TSA to acknowledge receipt of comments submitted by mail, include with your comments a self-addressed, stamped postcard or envelope on which the docket number appears and we will mail it to you.

All comments, except those that include confidential or sensitive security information (SSI) ¹ will be posted to https://www.regulations.gov, and will include any personal information you have provided. Should you wish your personally identifiable information redacted prior to filing in the docket, please clearly indicate this request in your submission to TSA. TSA will consider all comments that are in the docket on or before the closing date for comments and will consider comments filed late to the extent practicable. The docket is available for public inspection before and after the comment closing date.

¹ “Sensitive Security Information” or “SSI” is information obtained or developed in the conduct of security activities, the disclosure of which would constitute an unwarranted invasion of privacy, reveal trade secrets or privileged or confidential information, or be detrimental to the security of transportation. The protection of SSI is governed by 49 CFR part 1520.

Handling of Certain Sensitive Information Submitted in Public Comments

Do not submit comments that include trade secrets, confidential commercial or financial information, SSI, or protected critical infrastructure information to the public regulatory docket. Comments containing this type of information should be submitted separately from other comments, appropriately marked as containing such information, and submitted by mail to the addresses listed in the FOR FURTHER INFORMATION CONTACT section. TSA will take the following actions for all submissions containing SSI:

• TSA will not place comments containing SSI in the public docket and will handle them in accordance with applicable safeguards and restrictions on access.

• TSA will hold documents containing SSI, confidential business information, or trade secrets in a separate file to which the public does not have access, and place a note in the public docket explaining that commenters have submitted such documents.

• TSA may include a redacted version of the comment in the public docket.

• TSA will treat requests to examine or copy information that is not in the public docket as any other request under the Freedom of Information Act (5 U.S.C. 552) and the Department of Homeland Security's (DHS) Freedom of Information Act regulation found in 6 CFR part 5.

Reviewing Docket Comments and Documents

Please be aware that anyone is able to search the electronic form of all comments in any of our dockets by the name of the individual, association, business entity, labor union, etc., who submitted the comment. For more about privacy and the docket, review the Privacy and Security Notice for the Federal Docket Management System at https://www.regulations.gov/privacyNotice, as well as the System of Records Notice DOT/ALL 14—Federal Docket Management System (73 FR 3316, January 17, 2008) and the System of Records Notice DHS/ALL 044—eRulemaking (85 FR 14226, March 11, 2020).

You may review TSA's electronic public docket at https://www.regulations.gov. In addition, DOT's Docket Management Facility provides a physical facility, staff, equipment, and assistance to the public. To obtain assistance or to review items in TSA's public docket, you may visit this facility between 9 a.m. and 5 p.m., Monday through Friday, excluding legal holidays, or call (202) 366-9826. This DOT facility is located in the West Building Ground Floor, Room W12-140 at 1200 New Jersey Avenue SE, Washington, DC 20590.

Availability of Published Rulemaking Documents

You can find an electronic copy of this rulemaking using the internet by accessing the Government Publishing Office's web page at https://www.govinfo.gov/app/collection/FR/to view the daily published Federal Register edition or accessing the Office of the Federal Register's web page at https://www.federalregister.gov. Copies are also available by contacting the individual identified for “General Questions” in the FOR FURTHER INFORMATION CONTACT section.

Stacey Fitzmaurice,
Executive Assistant Administrator, Operations Support.

[FR Doc. 2023-18080 Filed 8-18-23; 11:15 am]

BILLING CODE 9110-05-P